DEPARTMENT OF HOMELAND SECURITY

National Communications System

[Docket No. NCS-2007-0005]

National Security Telecommunications Advisory Committee

AGENCY: National Communications System, DHS.

ACTION: Notice of Cancellation of the Federal Advisory Committee Teleconference Meeting of the President's National Security Telecommunications Advisory Committee (NSTAC).

SUMMARY: The meeting of the President's National Security Telecommunications Advisory Committee (NSTAC) scheduled for November 8, 2007 from 2 p.m. to 3 p.m. is cancelled. Notice of this meeting was published in the October 12, 2007, Federal Register at 58110-58111.

FOR FURTHER INFORMATION CONTACT: Ms. Sue Daage, Industry Operations Branch at NPPD/NCS/Mail Stop 8510, DHS/245 Murray Lane, Bldg. 410, Washington, DC 20528-8510. Telephone: (703) 235-5526, e-mail: Sue.Daage@dhs.gov.

SUPPLEMENTARY INFORMATION: NSTAC advises the President on issues and problems related to implementing national security and emergency preparedness telecommunications policy. Notice of cancellation os this meeting is given under the Federal Advisory Committee Act (FACA), Pub. L. 92-463, as amended, 5 U.S.C. App.

Sallie McDonald,
Director, National Communications System.

[FR Doc. 07-5592 Filed 11-7-07; 8:45 am]

BILLING CODE 4410-10-M